DEPARTMENT OF AGRICULTURE

Forest Service

Bonners Ferry Ranger District Salvage Sales; Idaho Panhandle National Forests; Boundary County, ID

AGENCY: Forest Service, USDA.

ACTION: Notice of intent to prepare an environmental impact statement.

SUMMARY: The USDA Forest Service will prepare an environmental impact statement (EIS) to disclose the potential environmental effects of salvage harvesting up to 20,000 acres of dead and damaged trees in scattered areas located on the Bonners Ferry Ranger District, Idaho Panhandle National Forests. Harvest of these trees is proposed to reduce hazardous fuels, to restore productive stand conditions and/or ecological functioning in areas affected by windstorms, insects, disease and other damaging events. Salvage harvest of these threes will help provide products for local post and pole mills, small sawmills, and other forest product manufacturers.

DATES: Written comments and suggestions should be received on or before July 3, 2000. The draft environmental impact statement is expected to be filed with the Environmental Protection Agency (EPA) and available for public review in August 2000. A Final Environmental Impact Statement will be published to sooner than September 2000.

ADDRESSES: Submit written comments and suggestions on the proposal, or requests to be placed on the project mailing list, to District Ranger, Bonners Ferry Ranger District, Route 4, Box 4860, Bonners Ferry, Idaho 83805-9764.

FOR FURTHER INFORMATION CONTACT: Barry Wynsma, project leader, Bonners Ferry Ranger District, Idaho Panhandle National Forests, Route 4, Box 4860, Bonners Ferry, Idaho 83805-9764, e-mail address: bwynsma@fs.fed.us

SUPPLEMENTARY INFORMATION: Windstorms, heavy snowfall, insects and disease and other events annually result in mortality and damage to numerous timber stands across the Bonners Ferry Ranger District. If untreated, affected stands can display a significant reduction productivity, can increase fire risks, and can create favorable conditions for increases in insect populations that can spread to adjacent healthy stands. Salvage harvesting within affected stands can restore the stands to more desirable conditions.

Such events typically occur in small areas and are scattered across the District. Due to the scattered nature of these stands and the relatively small amount of salvageable material, salvage harvests have historically been accomplished through the use of small timber sales, generally purchased by local small timber operators. Small salvage sale contracts typically include between 50 to 100 thousand board feet of dead trees (about 10 to 20 log-truck loads) per contract. Trees salvaged from such areas are utilized for firewood, paper pulp, house logs, sawlogs and a wide variety of other value-added products such as rustic furniture and musical instruments. These small industries are considered an import component of the local economic structure. The District has historically offered and sold an average of two to three million board feet of forest products per year of these types of salvage sales.

Salvage harvest can have adverse effects on other resource values and is not appropriate in many areas. To reduce the potential for adverse effects and to clarify the analysis necessary to determine the effects of the proposed action, the District conducted a screening process to avoid areas of the forest that contain resource values highly sensitive to proposed salvage harvest activities.

The acres within which salvage activities would be allowed through this proposed action are outside of riparian buffer zones, sensitive plant protection areas, designated old-growth stands, roadless areas, wetland and cultural resource protection zones. Also, the proposed salvage areas and activities are compatible with management strategies and Recovery Plans for Threatened or Endangered Species or their habitat and also with visual resources.

Preliminary issues include potential effects to Threatened, Endangered, and Sensitive wildlife, fish and plant species and water quality.

The Forest Service will develop a range of alternatives, including a No Action alternative to respond to issues raised during this scoping period.

The draft environmental impact statement is expected to be filed with the Environmental Protection Agency (EPA) and available for public review in August 2000. At that time, the EPA will publish a Notice of Availability of the draft environmental impact statement in the Federal Register. The comment period on the draft environmental impact statement will be 45 days from the date the EPA publishes the Notice of Availability in the Federal Register. A final environmental impact statement will be published after all comments are reviewed and responded to. A Record of Decision will be published at the time the Final EIS is released. The final decision will be subject to administrative review under CFR 215.17.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final environmental impact statement.

To assist the Forest Service in identifying and considering issues and concerns regarding the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the reqester of the agency's decision regarding the request for confidentiality, and where the request is denied, the agency will return the submission and notify the requester that the comments may be resubmitted with or without name and address within a specified number of days.

I am the responsible official for this environmental analysis. My address is Supervisor's Office, Idaho Panhandle National Forests, 315 Schreiber Way, Coeur d'Alene, ID 83814.

Dated: May 24, 2000.
David J. Wright,
Forest Supervisor.

[FR Doc. 00-13501 Filed 5-30-00; 8:45 am]

BILLING CODE 3410-11-M